SECURITIES AND EXCHANGE COMMISSION

[File No. 500-1]

Order of Suspension of Trading

April 10, 2015

In the Matter of

AmTrust Financial Group, Inc.

Boston Restaurant Associates, Inc.

Clary Corp.

Conbraco Industries, Inc.

Dream Factory, Inc. (The)

Dynatem, Inc.

Employers General Insurance Group

K-tel International, Inc.

Maintenance Depot, Inc.

Manifold Capital Corp.

McM Corp.

Mt. Carmel Public Utility Co.

Muskoka Flooring Corp.

National Investment Managers, Inc.

Naylor Pipe Co.

Omega Ventures, Inc.

On Stage Entertainment, Inc.

Pachinko World, Inc.

Polyair Inter Pack Inc.

Setech, Inc.

Seven J Stock Farm, Inc.

TransCor Waste Services, Inc.

Valley Systems, Inc. (VSI Liquidation Corp.)

World Racing Group, Inc.

It appears to the Securities and Exchange Commission that there is a lack of current and accurate public information concerning the securities of the issuers listed below.

1. It appears to the Securities and Exchange Commission that AmTrust Financial Group, Inc. is no longer an operating business. AmTrust Financial Group, Inc. was a Delaware corporation based in New York. The company is quoted on OTC Link, operated by OTC Markets Group Inc. (“OTC Link”), under the ticker symbol AFGP.

2. It appears to the Securities and Exchange Commission that Boston Restaurant Associates, Inc. has been taken private. Boston Restaurant Associates, Inc. is a Delaware corporation based in Massachusetts. The company is quoted on OTC Link under the ticker symbol BRAI.

3. It appears to the Securities and Exchange Commission that Clary Corp. has been taken private. Clary Corp. is a California corporation based in California. The company is quoted on OTC Link under the ticker symbol CLRY.

4. It appears to the Securities and Exchange Commission that Conbraco Industries, Inc. has been taken private. Conbraco Industries, Inc. is a North Carolina corporation based in North Carolina. The company is quoted on OTC Link under the ticker symbol CNIN.

5. It appears to the Securities and Exchange Commission that Dream Factory, Inc. (The) is no longer an operating business. Dream Factory, Inc. (The) was a Nevada corporation based in Texas. The company is quoted on OTC Link under the ticker symbol DRMF.

6. It appears to the Securities and Exchange Commission that Dynatem, Inc. has been taken private. Dynatem, Inc. is a California corporation based in California. The company is quoted on OTC Link under the ticker symbol DYTM.

7. It appears to the Securities and Exchange Commission that Employers General Insurance Group is no longer an operating business. Employers General Insurance Group is a Delaware corporation based in Texas. The company is quoted on OTC Link under the ticker symbol EGIG.

8. It appears to the Securities and Exchange Commission that K-tel International, Inc. has been taken private. K-tel International, Inc. is a Minnesota corporation based in Canada. The company is quoted on OTC Link under the ticker symbol KTLI.

9. It appears to the Securities and Exchange Commission that Maintenance Depot, Inc. is no longer an operating business. Maintenance Depot, Inc. was a Florida corporation based in Florida. The company is quoted on OTC Link under the ticker symbol MDPO.

10. It appears to the Securities and Exchange Commission that Manifold Capital Corp. is no longer an operating business. Manifold Capital Corp. was a Delaware corporation based in New York. The company is quoted on OTC Link under the ticker symbol MANF.

11. It appears to the Securities and Exchange Commission that McM Corp. has been taken private. McM Corp. is a North Carolina corporation based in North Carolina. The company is quoted on OTC Link under the ticker symbol MMOR.

12. It appears to the Securities and Exchange Commission that Mt. Carmel Public Utility Co. has been taken private. Mt. Carmel Public Utility Co. is an Illinois corporation based in Illinois. The company is quoted on OTC Link under the ticker symbol MCPB.

13. It appears to the Securities and Exchange Commission that Muskoka Flooring Corp. is no longer an operating business. Muskoka Flooring Corp. was a Delaware corporation based in Delaware. The company is quoted on OTC Link under the ticker symbol MSKA.

14. It appears to the Securities and Exchange Commission that National Investment Managers, Inc. has been taken private. National Investment Managers, Inc. is a Florida corporation based in Ohio. The company is quoted on OTC Link under the ticker symbol NIVM.

15. It appears to the Securities and Exchange Commission that Naylor Pipe Co. has been taken private. Naylor Pipe Co. is an Illinois corporation based in Illinois. The company is quoted on OTC Link under the ticker symbol NAYP.

16. It appears to the Securities and Exchange Commission that Omega Ventures, Inc. is no longer an operating business. Omega Ventures, Inc. was a Nevada corporation based in Florida. The company is quoted on OTC Link under the ticker symbol OMVN.

17. It appears to the Securities and Exchange Commission that On Stage Entertainment, Inc. has been taken private. On Stage Entertainment, Inc. is a Nevada corporation based in Nevada. The company is quoted on OTC Link under the ticker symbol ONST.

18. It appears to the Securities and Exchange Commission that Pachinko World, Inc. is no longer an operating business. Pachinko World, Inc. was a Nevada corporation based in California. The company is quoted on OTC Link under the ticker symbol PCHW.

19. It appears to the Securities and Exchange Commission that Polyair Inter Pack Inc. has been taken private. Polyair Inter Pack Inc. is a Canadian entity based in Canada. The company is quoted on OTC Link under the ticker symbol PPKZ.

20. It appears to the Securities and Exchange Commission that Setech, Inc. has been taken private. Setech, Inc. is a Delaware corporation based in Tennessee. The company is quoted on OTC Link under the ticker symbol SETC.

21. It appears to the Securities and Exchange Commission that Seven J Stock Farm, Inc. has been taken private. Seven J Stock Farm, Inc. is a Texas corporation based in Texas. The company is quoted on OTC Link under the ticker symbol SVJJ.

22. It appears to the Securities and Exchange Commission that TransCor Waste Services, Inc. has been taken private. TransCor Waste Services, Inc. is a Florida corporation based in Florida. The company is quoted on OTC Link under the ticker symbol TRCW.

23. It appears to the Securities and Exchange Commission that Valley Systems, Inc. (VSI Liquidation Corp.) is no longer an operating business. Valley Systems, Inc. (VSI Liquidation Corp.) was a Delaware corporation based in Georgia. The company is quoted on OTC Link under the ticker symbol VSLC.

24. It appears to the Securities and Exchange Commission that World Racing Group, Inc. has been taken private. World Racing Group, Inc. is a Delaware corporation based in North Carolina. The company is quoted on OTC Link under the ticker symbol WRGP.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on April 10, 2015, through 11:59 p.m. EDT on April 23, 2015.

By the Commission.
Jill M. Peterson,
Assistant Secretary.

[FR Doc. 2015-08621 Filed 4-10-15; 11:15 am]

BILLING CODE 8011-01-P